Title 3—

The President

Proclamation 7692 of July 24, 2003

National Korean War Veterans Armistice Day, 2003

By the President of the United States of America

A Proclamation

When North Korean troops invaded South Korea on June 25, 1950, the United States took immediate action to defend the freedom of a people unjustly attacked. Leading a coalition of 20 other countries, American and South Korean troops fought to advance liberty and opportunity and to overcome cruelty and repression. More than 1.7 million Americans faced forbidding terrain and harsh combat in battles such as Pork Chop Hill, Heartbreak Ridge, the Pusan Perimeter, and the Chosin Reservoir. Throughout the conflict, the members of our Armed Forces demonstrated extraordinary honor, skill, and courage.

The Military Armistice Agreement of July 27, 1953, ended 3 years of bitter warfare on the Korean Peninsula and stopped the spread of Communism in Korea, signaling to the world America's resolve to stand against tyranny and totalitarian regimes. Fifty years later, our Nation remains grateful for the bravery and sacrifice of our Korean War veterans. They defended human freedom, liberated the oppressed, and selflessly protected the democratic ideals that made our Nation strong. Their efforts reflect the honorable and decent spirit of America. More than 34,000 of America's service men and women gave their lives in battle in the Korean War. As we continue our fight to extend freedom today, we remember and honor their sacrifices and those of their families.

Thanks in large measure to the veterans of the Korean War, South Korea today stands as a shining example of the economic and social benefits of democracy. As we observe the 50th anniversary of the Armistice, America looks forward to the day when the stability of the Korean Peninsula is built on peaceful reconciliation of North and South. We pledge to work with the Republic of Korea to further our shared values of democracy, human rights, and free enterprise. And we will continue to build upon the comprehensive and dynamic relationship between our two nations to promote peace and prosperity on the Korean Peninsula and in Northeast Asia.

The Congress, by Public Law 104-19 as amended (36 U.S.C. 127), has designated July 27, 2003, as “National Korean War Veterans Armistice Day” and has authorized and requested the President to issue a proclamation in observance of this day.

NOW, THEREFORE, I, GEORGE W. BUSH, President of the United States of America, do hereby proclaim July 27, 2003, as National Korean War Veterans Armistice Day. I call upon all Americans to observe this day with appropriate ceremonies and activities that honor and give thanks to our distinguished Korean War veterans. I also ask Federal departments and agencies and interested groups, organizations, and individuals to fly the flag of the United States at half-staff on July 27, 2003, in memory of the Americans who died as a result of their service in the Korean War.

IN WITNESS WHEREOF, I have hereunto set my hand this twenty-fourth day of July, in the year of our Lord two thousand three, and of the Independence of the United States of America the two hundred and twenty-eighth.

B

[FR Doc. 03-19318

Filed 7-25-03; 10:38 am]

Billing code 3195-01-P